DEPARTMENT OF THE TREASURY

Office of Foreign Assets Control

Designation of Eight (8) Individuals Pursuant to Executive Order 13224 of September 23, 2001, “Blocking Property and Prohibiting Transactions With Persons Who Commit, Threaten To Commit, or Support Terrorism”

AGENCY: Office of Foreign Assets Control, Treasury.

ACTION: Notice.

SUMMARY: The Treasury Department's Office of Foreign Assets Control (“OFAC”) is publishing the names of eight (8) individuals whose property and interests in property are blocked pursuant to Executive Order 13224 of September 23, 2001, “Blocking Property and Prohibiting Transactions With Persons Who Commit, Threaten To Commit, or Support Terrorism.”

DATES: The designations by the Director of OFAC of the eight (8) individuals in this notice, pursuant to Executive Order 13224, are effective on August 30, 2012.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (www.treas.gov/ofac) or via facsimile through a 24-hour fax-on-demand service, tel.: 202/622-0077.

Background

On September 23, 2001, the President issued Executive Order 13224 (the “Order”) pursuant to the International Emergency Economic Powers Act, 50 U.S.C. 1701-1706, and the United Nations Participation Act of 1945, 22 U.S.C. 287c. In the Order, the President declared a national emergency to address grave acts of terrorism and threats of terrorism committed by foreign terrorists, including the September 11, 2001 terrorist attacks in New York, Pennsylvania, and at the Pentagon. The Order imposes economic sanctions on persons who have committed, pose a significant risk of committing, or support acts of terrorism. The President identified in the Annex to the Order, as amended by Executive Order 13268 of July 2, 2002, 13 individuals and 16 entities as subject to the economic sanctions. The Order was further amended by Executive Order 13284 of January 23, 2003, to reflect the creation of the Department of Homeland Security.

Section 1 of the Order blocks, with certain exceptions, all property and interests in property that are in or hereafter come within the United States or the possession or control of United States persons, of: (1) Foreign persons listed in the Annex to the Order; (2) foreign persons determined by the Secretary of State, in consultation with the Secretary of the Treasury, the Secretary of the Department of Homeland Security and the Attorney General, to have committed, or to pose a significant risk of committing, acts of terrorism that threaten the security of U.S. nationals or the national security, foreign policy, or economy of the United States; (3) persons determined by the Director of OFAC, in consultation with the Departments of State, Homeland Security and Justice, to be owned or controlled by, or to act for or on behalf of those persons listed in the Annex to the Order or those persons determined to be subject to subsection 1(b), 1(c), or 1(d)(i) of the Order; and (4) except as provided in section 5 of the Order and after such consultation, if any, with foreign authorities as the Secretary of State, in consultation with the Secretary of the Treasury, the Secretary of the Department of Homeland Security and the Attorney General, deems appropriate in the exercise of his discretion, persons determined by the Director of OFAC, in consultation with the Departments of State, Homeland Security and Justice, to assist in, sponsor, or provide financial, material, or technological support for, or financial or other services to or in support of, such acts of terrorism or those persons listed in the Annex to the Order or determined to be subject to the Order or to be otherwise associated with those persons listed in the Annex to the Order or those persons determined to be subject to subsection 1(b), 1(c), or 1(d)(i) of the Order.

On August 30, 2012 the Director of OFAC, in consultation with the Departments of State, Homeland Security, Justice and other relevant agencies, designated, pursuant to one or more of the criteria set forth in subsections 1(b), 1(c) or 1(d) of the Order, eight (8) individuals whose property and interests in property are blocked pursuant to Executive Order 13224.

The listings for these individuals on OFAC's list of Specially Designated Nationals and Blocked Persons appear as follows:

Individuals

1. HAMZA, Amir (a.k.a. HAMZA, Maulana Ameer), Jamia Masjid, al Qadsia, Chauburji Chowk, Lahore, Pakistan; DOB 10 May 1959; POB Sheikhupura, Punjab Province, Pakistan; citizen Pakistan; Passport AB6217491 issued 01 Jun 2006 expires 01 Jun 2011; National ID No. 3520149847497 (Pakistan) (individual) [SDGT].

2. MIR, Sajjid (a.k.a. CHAUDARY, Sajid Majeed; a.k.a. CHUHDRI, Sajid Majid; a.k.a. MAJEED, Sajid; a.k.a. MAJID, Sajid; a.k.a. MAJID, Sajjid; a.k.a. MIR, Sajid); DOB 31 Jan 1976; alt. DOB 01 Jan 1978; POB Lahore, Pakistan; nationality Pakistan; Passport KE381676 (Pakistan) issued 14 Oct 2004; National ID No. 3520163573447 (Pakistan) (individual) [SDGT].

3. MUJAHID, Abdullah (a.k.a. ABDALLAH, Abu), Mohallah Markaz Tayyeba Street, Muridke, Lahore, Pakistan; DOB 15 May 1970; POB Bhalwal, Sargodha District, Punjab Province, Pakistan; citizen Pakistan; Passport DM1074371 (Pakistan) issued 30 May 2009 expires 29 May 2014; National ID No. 3540118204373 (Pakistan) (individual) [SDGT].

4. MUNTAZIR, Abdullah (a.k.a. KHAN, Abdullah; a.k.a. MUNTAZER, Abdullah); DOB 17 Jan 1974; POB Abbottabad, Pakistan; National ID No. 3520203526763 (Pakistan) (individual) [SDGT].

5. SAEED, Talha (a.k.a. SAEED, Hafiz Talha; a.k.a. SAEED, Mohammad Talha; a.k.a. SAEED, Tahil), 116-E Block, Johar Town, Lahore, Pakistan; DOB 25 Oct 1975; POB Sarghoda, Punjab Province, Pakistan; Passport BM5971331 (Pakistan) issued 24 Mar 2007 expires 22 Mar 2012 (individual) [SDGT].

6. SHEIKH, Qari Muhammad Yaqoob (a.k.a. SHEIKH, Qari Muhammad Yaqub; a.k.a. YAQOOB, Mohammad; a.k.a. YAQOOB, Qari Shaikh Muhammad); DOB 20 Dec 1972; POB Bahawalpur, Punjab, Pakistan; Passport BX5192361 (Pakistan) issued 04 Aug 2007 expires 02 Aug 2012; National ID No. 3120128002365 (Pakistan) (individual) [SDGT].

7. WALID, Hafiz Khalid (a.k.a. NAIK, Khalid; a.k.a. WALEED, Khalid); DOB 25 Oct 1974; alt. DOB 1971; POB Lahore, Pakistan; citizen Pakistan; Passport AA9967331 (Pakistan) issued 03 Jun 2006 expires 02 Jun 2011; National ID No. 3410104067339 (Pakistan) (individual) [SDGT].

8. YAQUB, Ahmed (a.k.a. GHANI, Hamad; a.k.a. YAKOOB, Mohammad); DOB 1966; alt. DOB 1967; POB Faisalabad, Pakistan; alt. POB Jeda Walah, Punjab Province, Pakistan (individual) [SDGT].

Dated: August 30, 2012.
Barbara C. Hammerle,
Acting Director, Office of Foreign Assets Control.

[FR Doc. 2012-21953 Filed 9-10-12; 8:45 am]

BILLING CODE 4810-AL-P